DEPARTMENT OF TRANSPORTATION

Pipeline and Hazardous Materials Safety Administration

Office of Hazardous Materials Safety; Notice of Application for Special Permits

AGENCY: Pipeline and Hazardous Materials Safety Administration (PHMSA), DOT.

ACTION: List of applications for special permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before September 20, 2007.

ADDRESSES COMMENTS TO: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC or at http://dms.dog.gov.

This notice of receipt of applications for special permit is published in accordance with Part 107 of the Federal hazardous materials transportation law (49 U.S.C. 5117(b); 49 CFR 1.53(b)).

Issued in Washington, DC, on August 14, 2007.
Delmer F. Billings,
Director, Office of Hazardous Materials, Special Permits and Approvals.

New Special Permits
Application number | Docket number | Applicant | Regulation(s) affected | Nature of special permits thereof
14543-N |  | LBM Techno Gas, Langenfeld | 49 CFR 173.304(a)(2) | To authorize the transportation in commerce of DOT 39 Specification cylinders, containing a Division 2.2 gas, with a filling density which exceeds those presently authorized. (modes 1, 2, 3, 4)
14544-N |  | DS Containers, Inc., Batavia, IL | 49 CFR 173.306(a)(3)(v) | To authorize the transportation in commerce of Division 2.1 hazardous materials in certain non-refillable aerosol containers which are not subject to the hot water bath test. (modes 1, 2, 3)
14545-N |  | UCLA Film and Television Archive, Hollywood, CA | 49 CFR 173.183 | To authorize the one-way transportation in commerce of cellulose nitrate motion picture film from two locations in Hollywood, CA to climate-controlled film vaults in Santa Clarita, CA in alternative packaging. (mode 1)
14546-N |  | BOC Gases, Murray Hill, NJ | 49 CFR 180.209 | To authorize a longer requalification period for DOT 3AL 6061 specification cylinders. (modes 1, 2, 3)
14547-N |  | Olin Corporation, Winchester Division, East Alton, IL | 49 CFR 173.62(b) | To authorize the one-way transportation in commerce of scrap/waste cartridges, small arms in a non-DOT specification bulk packaging. (mode 1)
14548-N |  | International Air Transport Association, Montreal | 49 CFR 175.10(15) | To authorize the transportation in commerce of wheelchairs or other battery-powered mobility aids equipped with a non-spillable battery when carried as checked baggage, provided the battery meets certain provisions in 49 CFR, the battery terminals are protected from short circuits, and the battery is securely attached to the wheelchair or mobility aid. (mode 5)
14549-N |  | Greif, Inc., Delaware, OH | 49 CFR 180.350(b) | To authorize the manufacture and supply of rigid inner receptacles for use in repaired composite IBCs that is not manufactured by the applicant. (modes 1, 2, 3)
14550-N |  | Air Liquide Electronics Materials, F-71106, Chalon-sur-Saone, Cedix | 49 CFR 173.301, 173.304, and 173.304a | To authorize the filling, for export only, of non-DOT specification pressure vessels containing a liquefied flammable gas, and the return of the pressure vessels to the U.S., for purposes of refilling for export only, when containing a residue of that hazardous material. (modes 1, 2, 3)
14554-N |  | PHI, Inc., Lafayette, LA | 49 CFR 172.101, Column (9B) | To authorize the transportation in commerce of certain forbidden explosives by helicopter to various mountain sites in Antarctica as directed by the National Science Foundation of the US Government. (mode 4)
14556-N |  | Alcoa, Inc | 49 CFR 173.240(c) | To authorize the transportation in commerce of certain PG III hazardous materials in non-DOT specification bulk flexible packaging meeting Industrial Packaging Type 1 (IP-1). (modes 1, 2, 3)
14560-N |  | ICL Performance Products L.P., St. Louis, MO | 49 CFR 179.103 | To authorize the transportation in commerce of Division 4.2 hazardous materials in tank cars fitted with an alternative means of fittings protection. (mode 2)

[FR Doc. 07-4074 Filed 8-20-07; 8:45 am]

BILLING CODE 4909-60-M